DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on proposed revised information collections. In accordance with the Paperwork Reduction Act of 1995 (44 U.S.C. 3506(c)(2)(A)), this notice seeks comments on the enhancement of an existing Web-based database of Mitigation Success Stories, which documents mitigation and flood insurance strategies that worked well for different hazards, mitigation activities or project types. The All-hazards Success Story Database promotes mitigation practices that encourage communities, individuals, and other key decision-makers to take action to reduce hazard risks.

Supplementary Information: The Government Performance Results Act (GPRA) requires agencies to set missions and goals, and measure performance against them. FEMA will partially fulfill these requirements by collecting and sharing information describing successful mitigation and flood insurance practices occurring in communities nationwide. The Mitigation Success Stories database addresses FEMA's strategic goal of reducing the loss of life and property due to disasters through communications strategies aimed at assisting individuals, governments, and communities make sound risk management decisions.

Collection of Information

Title: Federal Emergency Management Agency (FEMA) Mitigation Success Story Database.

Type of Information Collection: Existing collection in use without OMB approval.

OMB Number: 1660-NEW6.

Abstract: Early mitigation actions, which focus on the prevention of loss of life and less damage to buildings and other structures, have been implemented throughout the United States. This database serves a dual purpose in providing a venue for gaining and disseminating knowledge about effective and efficient mitigation strategies implemented in communities nationwide. Federal, State, local officials or individuals experienced in hazard mitigation projects, community planning and floodplain administration, and other mitigation and flood insurance related projects constitute typical respondents to this information collection. The database offers visitors of the FEMA Web site a centralized, user-friendly venue to search a variety of best practices, success stories, and mitigation projects. By sharing information, communities and individuals can learn about available Federal programs to support the implementation of mitigation projects relevant to individual conditions and characteristics.

Affected Public: Individuals or Households; Businesses or Other for-Profit and Not-for-Profit Organizations; and Federal, State, Local, or Tribal Governments.

Estimated Total Annual Burden Hours: 563 Hours.

Annual Burden Hours
Project/activity (survey, form(s), focus group, etc.) | No. of respondents (A) | Frequency of responses (B) | Burden hours per respondent (C) | Annual responses (A×B) | Total annual burden hours (A×B×C)
Mitigation Success Story Database Submissions:
Electronic | 15 | 1 | 1.5 | 15 | 23
Personal | 135 | 1 | 4.0 | 135 | 540
Total | 150 | 1 |  | 150 | 563

Estimated Cost: $49,382.00

ANNUAL COST TO RESPONDENTS (BURDEN HOURS)
Program | Burden hrs | Average hr. rate ($) | Average cost per respondent ($) | Annualized cost all respondents ($)
Database Submissions
Electronic | 23 | 22.50 | 34.00 | 782.00
Personal | 540 | 22.50 | 90.00 | 48,600.00
Grand Total | 563 |  |  | 49,382.00

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be received on or before May 25, 2004.

ADDRESSES: Interested persons should submit written comments on the proposed information collection to Muriel B. Anderson, Chief, Records Management Branch, FEMA at 500 C Street, SW., Room 316, Washington, DC 20472, facsimile number (202) 646-3347, or email address: FEMA-Information-Collections@dhs.gov.

FOR FURTHER INFORMATION CONTACT: Contact Melis Mull, Program Analyst, Risk Communication Branch, Mitigation Division, FEMA/DHS, 202/646-4135 for additional information. You may contact Ms. Anderson for copies of the proposed information collection (see addressee information above).

Dated: March 22, 2004.
George S. Trotter,
Acting Division Director, Information Resources Management Division, Information Technology Services Directorate.

[FR Doc. 04-6781 Filed 3-25-04; 8:45 am]

BILLING CODE 9110-13-P